DEPARTMENT OF HEALTH AND HUMAN SERVICES

Meeting of the Secretary's Advisory Committee on National Health Promotion and Disease Prevention Objectives for 2020

AGENCY: Office of Disease Prevention and Health Promotion, Office of Public Health and Science, Office of the Secretary, Department of Health and Human Services.

ACTION: Notice.

SUMMARY: As stipulated by the Federal Advisory Committee Act, as amended (5 U.S.C. App.), the U.S. Department of Health and Human Services is hereby giving notice that the Secretary's Committee on National Health Promotion and Disease Prevention Objectives for 2020 will hold a meeting. The meeting will be open to the public.

DATES: The Committee is scheduled to meet for two days, on September 17 and 18, 2009. The meeting will be held from 9 a.m. to 5 p.m. Eastern Daylight Time (EDT) on September 17, and from 9 a.m. to 3 p.m. EDT on September 18.

ADDRESSES: Department of Health and Human Services, Room 800 Hubert H. Humphrey Building, 200 Independence Avenue, SW., Washington, DC 20201.

FOR FURTHER INFORMATION CONTACT: Emmeline Ochiai, Executive Secretary, Secretary's Advisory Committee on National Health Promotion and Disease Prevention Objectives for 2020, Department of Health and Human Services, Office of Public Health and Science, Office of Disease Prevention and Health Promotion, 1101 Wootton Parkway, Room LL-100, Rockville, MD 20852; Telephone: (240) 453-8259; Fax (240) 453-8281. Additional information is available on the Internet at http://www.healthypeople.gov.

SUPPLEMENTARY INFORMATION: Every ten years, through the Healthy People initiative, the U.S. Department of Health and Human Services (HHS) leverages scientific insights and lessons from the past decade, along with the new knowledge of current data, trends, and innovations to develop the next iteration of the national health promotion and disease prevention objectives. Healthy People provides science-based, ten-year national objectives for promotion of health and preventing disease. Since 1980, Healthy People has set and monitored national health objectives to meet a broad range of health needs, encourage collaborations across sectors, guide individuals toward making informed health decisions, and measure the impact of our prevention and health promotion activities. Healthy People 2020 will reflect assessment of major risks to health and wellness, changing public health priorities, and emerging technologies related to our nation's health preparedness and prevention.

The Committee will provide advice and consultation to the Secretary of Health and Human Services for developing and implementing the next iteration of the national health promotion and disease prevention goals and objectives and provide recommendations for initiatives to occur during the implementation phase of the goals and objectives. HHS will use the recommendations to inform the development of the national health promotion and disease prevention objectives for 2020 and the process for implementing the objectives. The intent is to develop and launch objectives designed to improve the health status and reduce health risks for Americans by the year 2020.

Purpose of Meeting: This meeting is being held for the Committee to develop recommendations regarding implementation, evidence-based actions, data, priorities, and the application of the social determinants of health. The Committee will address issues regarding the development and implementation of the nation's health promotion and disease prevention objectives for 2020 and approaches for improving the health status of and reducing the health risks for Americans by the year 2020.

Public Participation: Members of the public are invited to observe this advisory committee meeting. Please note that there will be no opportunity for oral public comments during the Committee meeting. Written comments are welcome throughout the development process of the national health promotion and disease prevention objectives for 2020. Comments may be submitted through the Healthy People Web site at http://www.healthypeople.gov/hp2020/comments/ or they can be e-mailed to HP2020@hhs.gov. Please note that the public comment Web site will be updated throughout the Healthy People development process, so people should return to the Web site frequently and provide their input.

To observe the Committee meeting, individuals must pre-register to attend at the Healthy People Web site, http://www.healthypeople.gov. Registrations must be completed by 5 p.m. EDT on September 14, 2009. Space for the meeting is limited. Registrations will be accepted until maximum room capacity is reached. A waiting list will be maintained should registrations exceed room capacity. Individuals on the waiting list will be contacted as additional space for the meeting becomes available. On September 17 and 18, 2009, registered meeting attendees should arrive 45 minutes prior to the start of the meeting for the necessary security procedures to be conducted. Security procedures require that all registered public attendees must present a valid photo identification (i.e., driver's license) and be escorted by appropriate Federal staff to the designated meeting site.

Registration questions may be directed to Hillary Scherer at the following e-mail address: HP2020@norc.org, by phone on (301) 634-9374 or by fax at (301) 634-9301.

Dated: August 28, 2009.
Penelope Slade-Sawyer,
P.T., M.S.W., RADM, USPHS, Deputy Assistant Secretary for Health (Disease Prevention and Health Promotion), Office of Disease Prevention and Health Promotion.

[FR Doc. E9-21217 Filed 9-1-09; 8:45 am]

BILLING CODE 4150-32-P